DEPARTMENT OF COMMERCE

National Oceanic and Atmospheric Administration

RIN 0648-XD664

Pacific Fishery Management Council; Public Meeting

AGENCY: National Marine Fisheries Service (NMFS), National Oceanic and Atmospheric Administration (NOAA), Commerce.

ACTION: Notice of online Webinar.

SUMMARY: The Pacific Fishery Management Council's (Pacific Council's) Scientific and Statistical Committee (SSC) will hold an online Webinar to review new methodologies proposed for 2015 west coast groundfish stock assessments. The online SSC Webinar is open to the public.

DATES: The SSC Webinar will commence at 1 p.m. PT, Tuesday, January 6, 2015 and continue until 3 p.m. or as necessary to complete business for the day.

ADDRESSES: To attend the SSC Webinar, please join online at http://www.gotomeeting.com/online/webinar/join-webinar and enter the Webinar ID: 156-698-723, as well as your name and email address. Once you have joined the Webinar, choose either your computer's audio or select “Use Telephone.” If you do not select “Use Telephone” you will be connected to audio using your computer's microphone and speakers (VolP). It is recommended that you use a computer headset as GoToMeeting allows you to listen to the meeting using your computer headset and speakers.

If you do not have a headset and speakers, you may use your telephone for the audio portion of the meeting by dialing this TOLL number 1-415-655-0059 (not a toll-free number); phone audio access code 892-406-076; audio phone pin shown after joining the Webinar System requirements for PC-based attendees: Windows 7, Vista, or XP; for Mac-based attendees: Mac OS X 10.5 or newer; and for mobile attendees: iPhone, iPad, Android phone, or Android tablet (see the GoToMeeting Webinar Apps). (See the PFMC GoToMeeting Audio Diagram for best practices). If you experience technical difficulties and would like assistance, please contact Mr. Kris Kleinschmidt at (503) 820-2425. Public comments during the webinar will be received from attendees at the discretion of the SSC chair. A public listening station will also be available at the Pacific Council office, 7700 NE Ambassador Place, Suite 101, Portland, OR 97220.

FOR FURTHER INFORMATION CONTACT: Mr. John DeVore, Pacific Council; telephone: (503) 820-2280.

SUPPLEMENTARY INFORMATION: The specific objectives of the SSC webinar are to review recommendations of the SSC's Groundfish Subcommittee regarding new methodologies proposed to inform 2015 groundfish stock assessments. No management actions will be decided in this Webinar.

Although non-emergency issues not identified in the webinar agenda may come before the webinar participants for discussion, those issues may not be the subject of formal action during this webinar. Formal action at the webinar will be restricted to those issues specifically listed in this notice and any issues arising after publication of this notice that require emergency action under Section 305(c) of the Magnuson-Stevens Fishery Conservation and Management Act, provided the public has been notified of the webinar participants' intent to take final action to address the emergency.

Special Accommodations

This meeting is physically accessible to people with disabilities. Requests for auxiliary aids should be directed to Mr. Kris Kleinschmidt at (503) 820-2425 at least 5 days prior to the webinar date.

Dated: December 16, 2014.
Tracey L. Thompson,
Acting Deputy Director, Office of Sustainable Fisheries, National Marine Fisheries Service.

[FR Doc. 2014-29744 Filed 12-18-14; 8:45 am]

BILLING CODE 3510-22-P